DEPARTMENT OF AGRICULTURE

Submission for OMB Review; Comment Request; Correction

October 23, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Horse Protection Regulations.

OMB Control Number: 0579-0056.

Summary of Collection: 9 CFR Part 11, Regulations, implement the Horse Protection Act of 1970 (Pub. L. 91-540), as amended July 13, 1976 (Pub. L. 94-360), and are authorized under Section 9 of the Act. The Horse Protection Legislation was enacted to prevent showing, exhibiting, selling, or auctioning of “sore” horses, and certain transportation of sore horses in connection therewith at horse shows, horse exhibitions, horse sales, and horse auctions. A sore horse is a horse that has received pain-provoking practices that cause the horse to have an accentuated, high stepping gait. Sore horses cannot be entered in an event by any person, including trainers, riders, or owners. Management of shows, sales, exhibitions, or auctions must identify sore horses to prevent their participation under the act.

Need and Use of the Information: APHIS will collect information at specified intervals from Horse Industry Organizations (HIO) and show managements. HIOs must maintain an acceptable Designated Qualified Person program and recordkeeping system as outlined in the regulations. Information provided by the HIOs through designated qualified persons allows APHIS to monitor whether enforcement of the Horse Protection Act, its regulations, and certifying programs are effective.

Description of Respondents: Business or other for-profit.

Number of Respondents: 1.514.

Frequency of Responses: Recordkeeping; Reporting: Quarterly; Monthly; Annually.

Total Burden Hours: 2,266.

Ruth Brown,
Departmental Information Collection Clearance Officer.

[FR Doc. E9-25922 Filed 10-27-09; 8:45 am]

BILLING CODE 3410-34-P